DEPARTMENT OF ENERGY

Federal Energy Regulatory Commission

Combined Notice of Filings #2

February 20, 2007.

Take notice that the Commission received the following electric corporate filings:

Docket Numbers: EC07-59-000.

Applicants: FirstEnergy Generation Corporation.

Description: FirstEnergy Generation Corp submits an application requesting Commission authorization to consummate a transaction whereby it will lease a 93.5% interest in an existing generation facility.

Filed Date: 2/6/2007.

Accession Number: 20070208-0196.

Comment Date: 5 p.m. Eastern Time on Tuesday, February 27, 2007.

Docket Numbers: EC07-60-000.

Applicants: Alliance Energy Renewables, LLC; Mirant New York, Inc.; Mirant NY-Gen, LLC.

Description: Alliance Energy Renewables, LLC et al. submit an application for approval of the disposition of jurisdictional facilities, pursuant to section 203 of the FPA.

Filed Date: 2/7/2007.

Accession Number: 20070208-0124.

Comment Date: 5 p.m. Eastern Time on Wednesday, February 28, 2007.

Docket Numbers: EC07-61-000.

Applicants: Horsehead Corporation; Horsehead Holding Corp.

Description: Horsehead Corp, et al. submit an application for order authorizing upstream disposition of jurisdictional facilities and blanket authorization under section 203 of the FPA.

Filed Date: 2/14/2007.

Accession Number: 20070216-0240.

Comment Date: 5 p.m. Eastern Time on Wednesday, March 7, 2007.

Take notice that the Commission received the following electric rate filings:

Docket Numbers: ER97-4345-021; ER98-511-009.

Applicants: Oklahoma Gas and Electric Company; OGE Energy Resources Inc.

Description: Oklahoma Gas and Electric Company et al. submit a change in status report relating to market-based rate authority previously granted to each of the OGE Companies in compliance with Order 652.

Filed Date: 2/6/2007.

Accession Number: 20070208-0189.

Comment Date: 5 p.m. Eastern Time on Tuesday, February 27, 2007.

Docket Numbers: ER00-1770-014; ER96-1361-011; ER98-4138-007; ER99-2781-009; ER98-3096-013; ER01-202-006; ER02-453-008; ER04-472-005; ER04-529-005.

Applicants: Conectiv Delmarva Generation LLC; Atlantic City Electric Company; Potomac Electric Power Company; Delmarva Power & Light Company; Pepco Energy Services, Inc.; Potomac Power Resources, LLC; Conectiv Energy Supply, Inc.; Conectiv Atlantic Generation, LLC; Conectiv Bethlehem, LLC; Fauquier Landfill Gas, LLC; Rolling Hills Landfill Gas, LLC.

Description: Pepco Holdings, Inc et al. submit a notification of change in status.

Filed Date: 2/13/2007.

Accession Number: 20070216-0020.

Comment Date: 5 p.m. Eastern Time on Tuesday, March 6, 2007.

Docket Numbers: ER00-2885-014; ER06-864-006; ER06-1543-004; ER01-2765-013; ER02-1582-012; ER02-1785-009; ER02-2102-013; ER97-2414-009; ER03-1283-006.

Applicants: Cedar Brakes I LLC; Bear Energy LP; Brush Cogeneration Partners; Cedar Brakes II LLC; Mohawk River Funding IV, LLC; Thermo Cogeneration Partnership L.P.; Utility Contract Funding, LLC; Lowell Cogeneration Company Limited Partnership; Vineland Energy LLC.

Description: Bear Energy, LP et al. notify that they have entered into an energy management agreement with MMC Mid-Sun, LLC pursuant to Order 652.

Filed Date: 2/7/2007.

Accession Number: 20070209-0108.

Comment Date: 5 p.m. Eastern Time on Wednesday, February 28, 2007.

Docket Numbers: ER01-313-010; ER01-424-010.

Applicants: California Independent System Operator Corporation.

Description: California Independent System Operator Corporation submits Grid Management Charges in accordance with Opinion 463-B.

Filed Date: 2/8/2007.

Accession Number: 20070212-0003.

Comment Date: 5 p.m. Eastern Time on Thursday, March 1, 2007.

Docket Numbers: ER01-1011-010; ER01-1335-008; ER01-642-006.

Applicants: Redbud Energy, LP; Magnolia Energy LP; Cottonwood Energy Company LP.

Description: Cottonwood Energy Co., LP et al. submit a notice of change in status for Public Utilities with market based rate authority, Order 652.

Filed Date: 2/15/2007.

Accession Number: 20070220-0045.

Comment Date: 5 p.m. Eastern Time on Thursday, March 8, 2007.

Docket Numbers: ER02-1330-007.

Applicants: Pacific Gas and Electric Company.

Description: Pacific Gas and Electric Co. submits an erratum to their 1/17/07 compliance filing, pursuant to FERC's 12/18/06 Order.

Filed Date: 2/6/2007.

Accession Number: 20070208-0094.

Comment Date: 5 p.m. Eastern Time on Tuesday, February 27, 2007.

Docket Numbers: ER03-114-003; ER04-183-002.

Applicants: Great Bay Power Marketing, Inc.; Great Bay Hydro Corporation.

Description: Great Bay Power Marketing, Inc. and Great Bay Hydro Corp. submit an updated market power analysis, and a request for an extension of deadline for filing the Triennial Market Update.

Filed Date: 02/13/2007.

Accession Number: 20070216-0015.

Comment Date: 5 p.m. Eastern Time on Tuesday, March 6, 2007.

Docket Numbers: ER03-1330-002.

Applicants: Ebersen, Inc.

Description: Ebersen, Inc. submits a Petition for Acceptance of Initial Tariff, Waivers and Blanket Authority, FERC Electric Tariff, Original Volume 1.

Filed Date: 2/14/2007.

Accession Number: 20070220-0051.

Comment Date: 5 p.m. Eastern Time on Wednesday, March 7, 2007.

Docket Numbers: ER05-1065-007.

Applicants: Entergy Services, Inc.

Description: Entergy Services, Inc. on behalf of the Entergy Operating Companies submits a report of inaccurate data due to OASIS software issues.

Filed Date: 2/15/2007.

Accession Number: 20070220-0049.

Comment Date: 5 p.m. Eastern Time on Thursday, March 8, 2007.

Docket Numbers: ER05-1178-008; ER05-1191-008.

Applicants: Gila River Power, LP; Union Power Partners, LP

Description: Gila River Power, LP et al. submits a notice of non-material change in status relating to their upstream ownership structure pursuant to Section 35.27(c) of Rules and Regs.

Filed Date: 2/7/2007.

Accession Number: 20070208-0190.

Comment Date: 5 p.m. Eastern Time on Wednesday, February 28, 2007.

Docket Numbers: ER07-64-003.

Applicants: ALLETE, Inc.

Description: ALLETE, Inc. submits an original revised rate schedule and a distribution wheeling rate for Central MN Ethanol Co-op interconnection etc. pursuant to Order 614.

Filed Date: 2/15/2007.

Accession Number: 20070220-0047.

Comment Date: 5 p.m. Eastern Time on Thursday, March 8, 2007.

Docket Numbers: ER07-129-002.

Applicants: Atlantic Path 15, LLC.

Description: Atlantic Path 15, LLC submits a response to FERC's 1/30/07 request for additional information.

Filed Date: 2/13/2007.

Accession Number: 20070216-0019.

Comment Date: 5 p.m. Eastern Time on Tuesday, March 6, 2007.

Docket Numbers: ER07-406-001.

Applicants: Entergy Services, Inc.

Description: Entergy Services, Inc. on behalf of the Entergy Operating Companies submits revised mutually-executed Network Operating Agreement with Cleco Power LLC pursuant to FERC's 2/7/07 Order.

Filed Date: 2/14/2007.

Accession Number: 20070220-0050.

Comment Date: 5 p.m. Eastern Time on Wednesday, March 7, 2007.

Docket Numbers: ER07-477-000.

Applicants: Florida Power & Light Company.

Description: Florida Power and Light Company submits revisions to its Transmission Service Agreement with Seminole Electric Coop, Inc. in compliance with FERC's 5/21/04 Order.

Filed Date: 1/25/2007.

Accession Number: 20070131-0120.

Comment Date: 5 p.m. Eastern Time on Friday, March 2, 2007.

Docket Numbers: ER07-488-000.

Applicants: Southern California Edison Company.

Description: Southern California Edison Company submits its annual update of the transmission access charge balancing account adjustment under ER07-488.

Filed Date: 1/31/2007.

Accession Number: 20070207-0069.

Comment Date: 5 p.m. Eastern Time on Wednesday, February 21, 2007.

Docket Numbers: ER07-489-001.

Applicants: Arizona Public Service Company.

Description: Arizona Public Service Co. submits an errata to its 1/31/07 filing of an executed EEI Master Power Purchase and Sale Agreement with Tohono O'Odham Utility Authority.

Filed Date: 2/6/2007.

Accession Number: 20070208-0187.

Comment Date: 5 p.m. Eastern Time on Tuesday, February 27, 2007.

Docket Numbers: ER07-491-001.

Applicants: Acacia Energy, Inc.

Description: Acacia Energy, Inc. submits an Amended Petition for Acceptance of Initial Tariff, Waivers and Blanket Authority and a proposed Substitute Original Sheet 1.

Filed Date: 2/15/2007.

Accession Number: 20070220-0046.

Comment Date: 5 p.m. Eastern Time on Thursday, March 8, 2007.

Docket Numbers: ER07-500-001.

Applicants: Xcel Energy Operating Companies.

Description: Xcel Energy Operating Companies submits a correction to its initial filing by providing Attachment 4 which was inadvertently omitted from the 2/2/07 filing.

Filed Date: 2/13/2007.

Accession Number: 20070216-0018.

Comment Date: 5 p.m. Eastern Time on Tuesday, March 6, 2007.

Docket Numbers: ER07-521-000.

Applicants: New York Independent System Operator, Inc.

Description: New York Independent System Operator, Inc. submits a compliance filing in response to Order 681 and 681-A.

Filed Date: 2/5/2007.

Accession Number: 20070208-0184.

Comment Date: 5 p.m. Eastern Time on Monday, February 26, 2007.

Docket Numbers: ER07-522-000.

Applicants: Old Trail Wind Farm, LLC.

Description: Old Trail Wind Farm, LLC submits a petition for order accepting market-based rate tariff for filing and granting waivers and blanket approvals.

Filed Date: 2/7/2007.

Accession Number: 20070208-0186.

Comment Date: 5 p.m. Eastern Time on Wednesday, February 28, 2007.

Docket Numbers: ER07-524-000.

Applicants: Warren Power, LLC.

Description: Warren Power LLC submits a Cost-Based Capacity and Energy Sale Agreement w/ EWO Marketing, LP pursuant to Section 205 of the FPA and Part 35 of FERC's Regulations.

Filed Date: 2/7/2007.

Accession Number: 20070208-0122.

Comment Date: 5 p.m. Eastern Time on Wednesday, February 28, 2007.

Docket Numbers: ER07-525-000.

Applicants: Entergy Services Inc.

Description: Entergy Services, Inc. on behalf of Entergy Operating Companies submits the mutually-executed 2/5/07 Long-Term Firm Point-to-Point Transmission Service Agreement with American Electric Power Service Corp.

Filed Date: 2/7/2007.

Accession Number: 20070208-0121.

Comment Date: 5 p.m. Eastern Time on Wednesday, February 28, 2007.

Docket Numbers: ER07-526-000.

Applicants: Southern California Edison Company.

Description: Southern California Edison Co. submits an amended Dillon I Wind Project Interconnection Facilities Agreement et al. with Dillon Wind, LLC.

Filed Date: 2/8/2007.

Accession Number: 20070212-0048.

Comment Date: 5 p.m. Eastern Time on Thursday, March 1, 2007.

Docket Numbers: ER07-527-000.

Applicants: Longview Fibre Paper and Packaging, Inc.

Description: Longview Fibre Paper and Packaging, Inc. submits an application for order accepting market-based rate tariff, granting authorizations and blanket authority, and waiving certain requirements.

Filed Date: 2/8/2007.

Accession Number: 20070212-0047.

Comment Date: 5 p.m. Eastern Time on Thursday, March 1, 2007.

Docket Numbers: ER07-528-000.

Applicants: Brookfield Energy Marketing U.S. LLC.

Description: Brookfield Energy Marketing US, LLC submits application for market-based rate authorization (FERC Electric Tariff, Original Volume 1) and certain waivers and blanket authorizations.

Filed Date: 2/8/2007.

Accession Number: 20070212-0046.

Comment Date: 5 p.m. Eastern Time on Thursday, March 1, 2007.

Docket Numbers: ER07-535-000.

Applicants: Rolling Hills Landfill Gas, LLC.

Description: Rolling Hills Landfill Gas, LLC submits a notice of cancellation and Order 614 complaint, canceled tariff sheet terminating the market-based rate tariff & requests waiver of FERC's notice requirements.

Filed Date: 2/13/2007.

Accession Number: 20070216-0016.

Comment Date: 5 p.m. Eastern Time on Tuesday, March 6, 2007.

Docket Numbers: ER07-536-000.

Applicants: American Electric Power System Corporation.

Description: American Electric Power Service Corp. on behalf of American Electric Power System et al. submits Notice of Cancellation of an Interconnection and Local Delivery Service Agreement with certain operating companies.

Filed Date: 2/13/2007.

Accession Number: 20070216-0017.

Comment Date: 5 p.m. Eastern Time on Tuesday, March 6, 2007.

Docket Numbers: ER07-537-000.

Applicants: ISO New England Inc.

Description: ISO New England Inc. submits its Capital Budget Quarterly filing for Fourth Quarter of 2006.

Filed Date: 2/14/2007.

Accession Number: 20070216-0021.

Comment Date: 5 p.m. Eastern Time on Wednesday, March 7, 2007.

Docket Numbers: ER07-538-000.

Applicants: California Independent System Operator Corporation.

Description: California Independent System Operator Corp submits a Transmission Access Charge Informational Filing effective 10/1/06-12/31/06.

Filed Date: 2/14/2007.

Accession Number: 20070216-0022.

Comment Date: 5 p.m. Eastern Time on Wednesday, March 7, 2007.

Docket Numbers: ER07-539-000.

Applicants: Niagara Mohawk Power Corporation.

Description: Niagara Mohawk Power Corp submits Original Service Agreement 928 with Cornwall Street Railway Light and Power Co, Ltd.

Filed Date: 2/14/2007.

Accession Number: 20070216-0023.

Comment Date: 5 p.m. Eastern Time on Wednesday, March 7, 2007.

Docket Numbers: ER07-540-000.

Applicants: Berkshire Power Company, LLC.

Description: Niagara Mohawk Power Corp dba National Grid submits Original Service Agreement 913 with Canadian Niagara Power Co, Inc and amendments to the agreements under FERC Electric Tariff, Original Volume 1.

Filed Date: 2/14/2007.

Accession Number: 20070216-0024.

Comment Date: 5 p.m. Eastern Time on Wednesday, March 7, 2007.

Docket Numbers: ER07-541-000.

Applicants: Entergy Services Inc.

Description: Entergy Services Inc acting as agent for Entergy Operating Companies submits the mutually-executed January 11, 2007 Long-Term Firm Point-to-Point Transmission Agreement with NRG Power Marketing, Inc.

Filed Date: 2/14/2007.

Accession Number: 20070216-0243.

Comment Date: 5 p.m. Eastern Time on Wednesday, March 7, 2007.

Docket Numbers: ER07-542-000.

Applicants: AmPro Energy Wholesale LP.

Description: AmPro Energy Wholesale submits a notice of cancellation of its FERC Electric Tariff, Original Volume 1.

Filed Date: 2/14/2007.

Accession Number: 20070216-0244.

Comment Date: 5 p.m. Eastern Time on Wednesday, March 7, 2007.

Docket Numbers: ER07-543-000.

Applicants: Linden VFT, LLC.

Description: Linden VFT, LLC submits a petition for authority to make sales of transmission rights at negotiated rates acceptance of open season report and request for waivers.

Filed Date: 2/14/2007.

Accession Number: 20070216-0245.

Comment Date: 5 p.m. Eastern Time on Wednesday, March 7, 2007.

Docket Numbers: ER07-544-000.

Applicants: PacifiCorp.

Description: PacifiCorp submits Jurisdictional Agreement w/Lehi City Power pursuant to Section 205 of the Federal Power Act.

Filed Date: 2/14/2007.

Accession Number: 20070216-0246.

Comment Date: 5 p.m. Eastern Time on Wednesday, March 7, 2007.

Docket Numbers: ER07-545-000.

Applicants: Commonwealth Edison Company.

Description: Exelon Corporation on behalf of Commonwealth Edison Company submits a Construction Agreement with High Trail Wind Farm, LLC.

Filed Date: 2/14/2007.

Accession Number: 20070216-0247.

Comment Date: 5 p.m. Eastern Time on Wednesday, March 7, 2007.

Docket Numbers: ER07-548-000.

Applicants: NSTAR Electric Company.

Description: NSTAR Electric Co submits an executed wholesale distribution service agreement for service to MATEP, LLC.

Filed Date: 2/15/2007.

Accession Number: 20070216-0147.

Comment Date: 5 p.m. Eastern Time on Thursday, March 8, 2007.

Docket Numbers: ER07-549-000.

Applicants: NSTAR Electric Company.

Description: NSTAR Electric Company submits a Revised Schedule 21 pursuant to Section II of the ISO New England Inc. Transmission, Markets and Services Tariff, and requesting Waiver of the Commission's 60-day notice requirements.

Filed Date: 2/14/2007.

Accession Number: 20070216-0146.

Comment Date: 5 p.m. Eastern Time on Wednesday, March 7, 2007.

Docket Numbers: ER07-550-000.

Applicants: Midwest Independent Transmission System Operator, Inc.

Description: Midwest Independent Transmission System Operator, Inc. submits revisions & amendments to its Open Access Transmission & Energy Markets Tariff relating to proposed amendments to the BA Agreement.

Filed Date: 2/15/2007.

Accession Number: 20070216-0155.

Comment Date: 5 p.m. Eastern Time on Friday, March 23, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E7-3230 Filed 2-23-07; 8:45 am]

BILLING CODE 6717-01-P